DEPARTMENT OF THE INTERIOR

Bureau of Land Management

[NV-030-00-1020-24]

Sierra Front/Northwestern Great Basin Resource Advisory Council; Notice of Cancellation of Scheduled Meeting

AGENCY: Bureau of Land Management, Interior.

ACTION: Notice of Cancellation of Scheduled Meeting for the Sierra Front/Northwestern Great Basin Resource Advisory Council, Nevada.

SUMMARY: In accordance with the Federal Land Policy and Management Act and the Federal Advisory Committee Act of 1972 (FACA), notice is hereby given of cancellation of a previously scheduled June 14, 2000, meeting of the U.S. Department of the Interior, Bureau of Land Management (BLM) Sierra Front/Northwestern Great Basin Resource Advisory Council (RAC), Nevada. The topic of discussion was to be a review of the Black Rock Management Plan being prepared by the Winnemucca Field Office; the meeting will be rescheduled at a future date.

DATE AND TIME: The council was scheduled to meet on Wednesday, June 14, 2000, from 9:00 a.m. to 5:00 p.m. at the Best Western Inn-Fernley, 1405 East Newlands Drive, Fernley, Nevada. The meeting has been cancelled due to BLM staffing changes and associated time delays related to completing the Black Rock Management Plan. A review of the plan will be rescheduled at a future RAC meeting.

FOR FURTHER INFORMATION CONTACT: Mike Holbert, Associate Field Manager, Winnemucca Field Office, 5100 East Winnemucca Blvd., Winnemucca, NV 89445. Telephone (775) 623-1500.

Dated: June 5, 2000.
Mark Struble,
Public Affairs Officer/RAC Coordinator, Carson City Field Office.

[FR Doc. 00-14998 Filed 6-13-00; 8:45 am]

BILLING CODE 4310-HC-P